DEPARTMENT OF STATE

[Public Notice 6201]

Notice of Availability of the Draft Environmental Assessment for the Proposed Frontera Juarez Pipeline Project

AGENCY: Department of State.

ACTION: Notice of Availability of the Draft Environmental Assessment (EA) for the Proposed Frontera Juarez Pipeline Project.

A draft Environmental Assessment (EA) for the Proposed Frontera Juarez Pipeline Project has been prepared by P.M.I. Services North America (“PMI”) in support of its application to the Department for a Presidential permit. On January 18, 2008, The Department of State received an application from PMI for a Presidential permit, pursuant to Executive Order 13337 of April 30, 2004, as amended, to construct, connect, operate, and maintain facilities at the border for a 10.75-inch diameter liquid hydrocarbon (gasoline and diesel) pipeline at the U.S.-Mexico border near San Elizario, Texas, for the purpose of transporting gasoline and diesel between the United States and Mexico. PMI has stated that it seeks this authorization in connection with its Frontera Juarez Pipeline Project (“Frontera”), which is designed to transport gasoline and diesel from the Longhorn Partners Pipeline Terminal in El Paso County, Texas, to the U.S.-Mexico border near San Elizario, Texas.

The Secretary of State is designated and empowered to receive all applications for Presidential permits, as referred to in Executive Order 13337, as amended, for the construction, connection, operation, or maintenance, at the borders of the United States, of facilities for the exportation or importation of petroleum, petroleum products, coal, or other fuels to or from a foreign country.

On March 26, 2008, the Department of State published in the Federal Register a Notice of Receipt of the PMI application and of intent to prepare an Environmental Assessment (EA), soliciting public comments on the application. In accordance with section 102(C) of the National Environmental Policy Act of 1969 (NEPA) (42 U.S.C. 4332(C)) and implementing regulations promulgated by the Council on Environmental Quality (40 CFR parts 1500-1508) and the Department of State (22 CFR part 161), including in particular 22 CFR 161.7(c)(1), a draft environmental assessment (EA) was prepared by PMI to determine if there are any potential significant impacts, to address alternatives to the proposed action, and to determine possible impacts to traditional or cultural properties under section 106 of the National Historic Preservation Act. In light of public comments submitted on the application, PMI has now revised its draft EA and made it available for further review.

The purpose of this Notice of Availability is to invite public comment on the draft EA prepared by PMI. Any person wishing to comment on the draft EA may do so. To ensure consideration of comments prior to a Department of State decision on the application, it is important that we receive your comments by no later than 30 days from publication of notice. Options for submitting comments on the draft EA are as follows:

• By mail to: Elizabeth Orlando, OES/ENV Room 2657, U.S. Department of State, Washington, DC 20520. Please note that Department of State mail can be delayed due to security screening.

• Fax to: (202) 647-1052, attention Elizabeth Orlando.

• E-mail to: orlandoea2@state.gov.

In addition to or in lieu of sending written comments, the Department of State invites you to attend a public meeting in the project area to submit comments on the draft EA. A court reporter will be present and will accept comments for the record. The date and location for the public meeting is: May 7, 2008; 7 p.m. to 10 p.m. (local time). At the Lower Valley Water District, 1557 FM Road 1110, Clint, Texas 79836. (Signs will be posted at address).

After comments are reviewed, significant new issues (if any) are investigated, and modifications (if any) are made to the draft EA, a final EA will be made available by the Department of State, along with the Department's determination whether a Finding of No Significant Impact (FONSI) is appropriate in this case or whether an Environmental Impact Statement (EIS) must be prepared. The final EA will contain the Department's response to timely comments received on the draft EA.

FOR FURTHER INFORMATION CONTACT: For further information, to receive a CD-ROM copy of the draft EA, or to comment on the proposed project contact Elizabeth Orlando, OES/ENV Room 2657, U.S. Department of State, Washington, DC 20520, telephone 202-647-4284, facsimile 202-647-1052, e-mail orlandoea2@state.gov.

Issued in Washington, DC on April 22, 2008.
Stephen J. Gallogly,
Director, International Energy and Commodity Policy, Department of State.

[FR Doc. E8-9366 Filed 4-28-08; 8:45 am]

BILLING CODE 4710-05-P